DEPARTMENT OF HOUSING AND URBAN DEVELOPMENT

[Docket No. FR-5711-N-01]

Notice of Regulatory Waiver Requests Granted for the First Quarter of Calendar Year 2013

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on January 1, 2013, and ending on March 31, 2013.

FOR FURTHER INFORMATION CONTACT: For general information about this notice, contact Camille E. Acevedo, Associate General Counsel for Legislation and Regulations, Department of Housing and Urban Development, 451 7th Street SW., Room 10282, Washington, DC 20410-0500, telephone 202-708-1793 (this is not a toll-free number). Persons with hearing- or speech-impairments may access this number through TTY by calling the toll-free Federal Relay Service at 800-877-8339.

For information concerning a particular waiver that was granted and for which public notice is provided in this document, contact the person whose name and address follow the description of the waiver granted in the accompanying list of waivers that have been granted in the first quarter of calendar year 2013.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337). In accordance with those procedures and with the requirements of section 106 of the HUD Reform Act, waivers of regulations are granted by the Assistant Secretary with jurisdiction over the regulations for which a waiver was requested. In those cases in which a General Deputy Assistant Secretary granted the waiver, the General Deputy Assistant Secretary was serving in the absence of the Assistant Secretary in accordance with the office's Order of Succession.

This notice covers waivers of regulations granted by HUD from January 1, 2013 through March 31, 2013. For ease of reference, the waivers granted by HUD are listed by HUD program office (for example, the Office of Community Planning and Development, the Office of Fair Housing and Equal Opportunity, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are in time sequence beginning with the earliest-dated regulatory waiver.

Should HUD receive additional information about waivers granted during the period covered by this report (the first quarter of calendar year 2013) before the next report is published (the second quarter of calendar year 2013), HUD will include any additional waivers granted for the first quarter in the next report.

Accordingly, information about approved waiver requests pertaining to HUD regulations is provided in the Appendix that follows this notice.

Dated: May 23, 2013.
Helen R. Kanovsky,
General Counsel.

Appendix

Listing of Waivers of Regulatory Requirements Granted by Offices of the Department of Housing and Urban Development January 1, 2013 Through March 31, 2013

Note to Reader: More information about the granting of these waivers, including a copy of the waiver request and approval, may be obtained by contacting the person whose name is listed as the contact person directly after each set of regulatory waivers granted.

The regulatory waivers granted appear in the following order:

I. Regulatory waivers granted by the Office of Community Planning and Development.

II. Regulatory waivers granted by the Office of Housing.

III. Regulatory waivers granted by the Office of Public and Indian Housing.

I. Regulatory Waivers Granted by the Office of Community Planning and Development

For further information about the following regulatory waivers, please see the name of the contact person that immediately follows the description of the waiver granted.

• Regulation: 24 CFR 51.104(b)(2).

Project/Activity: The Director of the Illinois State Office of Public Housing requested a waiver of the Environmental Impact Statement (EIS) requirement at 24 CFR 51.104(b)(2) for the Maplewood Courts HOPE VI redevelopment project located in Chicago, IL. The project includes the construction of eight mixed income rental buildings and an additional building with a community and management space. Excessive noise is the only environmental issue and no noise-sensitive outdoor uses such as patios, picnic areas, balconies, etc. will take place at the site.

Nature of Requirement: The regulation at 24 CFR 51.104(b)(2) requires an EIS prior to the approval of projects with unacceptable noise exposure. Projects in or partially in an unacceptable Noise Zone must be submitted to the Assistant Secretary for Community Planning and Development, or the Certifying Officer for activities subject to 24 CFR part 58, for approval. The Assistant Secretary or the Certifying Officer may waive the EIS requirement in cases where noise is the only environmental issue and no outdoor noise sensitive activity will take place on the site. In such cases, an environmental review shall be made pursuant to the requirements of 24 CFR parts 50 or 58, as appropriate.

Granted By: Mark Johnston, Acting Assistant Secretary for Community Planning and Development.

Date Granted: January 28, 2013.

Reason Waived: The waiver was granted because noise is the only environmental issue, which was the subject of the waiver, and HUD was advised that no outdoor noise sensitive activity would take place on the site. It was determined that the project would further the HUD mission and advance HUD program goals to develop viable, quality communities and affordable housing. Based on the environmental assessments and the HUD field inspection, it was determined that granting the waiver would not result in any unmitigated, adverse environmental impact, would further the purposes of the HOPE VI program, and result in a revitalized community, benefitting all neighborhood residents.

Contact: Nelson A. Rivera, Office of Environment and Energy, Office of Community Planning and Development, Department of Housing and Urban Development, 451 7th Street SW., Room 7248, Washington, DC 20410, telephone 202-708-4225.

• Regulation: 24 CFR 58.22(a).

Project/Activity: The Confederated Tribes of Siletz Indians, OR, requested a waiver of 24 CFR 58.22(a) for the acquisition of the Mast Property in Lincoln City, OR. The proposed project was to be used for the construction of affordable housing for tribal members. A waiver was needed because the grantee committed non-HUD funds to acquire the property prior to the approval of the Request for Release of Funds (RROF).

Nature of Requirement: The regulation at 24 CFR 58.22(a) provides that neither a recipient nor any participant in the development process, including public or private nonprofit or for-profit entities, or any of their contractors, may commit HUD assistance under a program listed in 58.1(b) on an activity or project until HUD or the state has approved the recipient's RROF and the related certification from the responsible entity. In addition, the regulation provides that until the RROF and the related certification have been approved, neither a recipient nor any participant in the development process may commit non-HUD funds on or undertake an activity or project under a program listed in 58.1(b) if the activity or project would have an adverse environmental impact or limit the choice of reasonable alternatives.

Granted By: Mark Johnston, Acting Assistant Secretary for Community Planning and Development.

Date Granted: January 22, 2013.

Reason Waived: The project will further the HUD mission and will advance HUD program goals to develop viable, quality communities and affordable housing; the grantee unknowingly violated the regulation; no HUD funds were committed; and based on the environmental assessments and the HUD field inspection, granting the waiver will not result in any unmitigated, adverse environmental impact.

Contact: Kathryn Au, Office of Environment and Energy, Office of Community Planning and Development, Department of Housing and Urban Development, 451 7th Street SW., Room 7250, Washington, DC 20410, telephone (202) 402-6340.

• Regulation: 24 CFR 91.115(c)(2).

Project/Activity: The state of Louisiana requested a waiver of HUD regulation at 24 CFR 91.115(c)(2), that requires a period not less than 30 days, to receive comments on a substantial amendment (of the consolidated plan) before an amendment is implemented. The request was related to Hurricane Isaac, which devastated parts of the state of Louisiana. Parts of Louisiana were declared Federal disaster areas on August 29, 2012.

Nature of Requirement: HUD regulation at 24 CFR 91.115(c)(2) requires a jurisdiction to provide a period of not less than 30 days, to receive comments on the substantial amendment (of the consolidated plan) before the amendment is implemented. The requested waiver covers the State's FY 2010—FY 2014 Consolidated Plan and FY 2012 Action Plan.

Granted By: Mark Johnston, Acting Assistant Secretary for Community Planning and Development.

Date Granted: January 31, 2013.

Reason Waived: Pursuant to 24 CFR 5.110 and 24 CFR 91.600, HUD determined that good cause was demonstrated to waive 24 CRFR 91.115(c)(2) in order to allow the State to address the devastation related to Hurricane Isaac in an expedited manner. The comment period was reduced from 30 days to 7 days so as to balance the desire to expedite the disaster recovery process with the need to provide citizens reasonable notice and opportunity to comment on the proposed uses of program funds.

Contact: Steve Rhodeside, Director, State and Small Cities Division, Office of Block Grant Assistance, Office of Community Planning and Development, Department of Housing and Urban Development, Room 7184, 451 7th Street SW., Washington, DC 20410, telephone (202) 402-7375.

• Regulations: 24 CFR 91.401 and 24 CFR 92.500(d)(1)(B).

Project/Activity: Jefferson Parish Consortium, LA, requested a waiver of 24 CFR 91.401—Citizen Participation Period (Consortia), which requires that the citizen participation plan provide citizens with reasonable notice and opportunity to comment on substantial amendments to the Consolidated Plan. The Consortium also requested a waiver of Section 218(g) of the HOME Investment Partnerships Act (42 U.S.C. 12748) (HOME) and 24 CFR 92.500(d)(1)(B) which require a participating jurisdiction to commit its annual allocation of HOME funds within 24 months after HUD notifies a participating jurisdiction that HUD has executed the jurisdiction's HOME Investment Partnership Agreement.

Nature of Requirements: The Consortium requested these waivers seeking additional time to facilitate the ongoing recovery in the Jean Lafitte area from the devastation caused by Hurricane Isaac. Jean Lafitte area is located within a declared disaster area pursuant to Title IV of the Robert T. Stafford Disaster Relief and Emergency Assistance Act. HUD's regulation at 24 CFR 91.401 was waived to allow the Consortium to amend the public comment period from a period not less than 30 days to 7 days to provide a reasonable opportunity for public comment and to allow the Consortium to quickly reprogram HOME funds. Suspension of Section 218(g) and waiver of 24 CFR 92.500(d)(1)(B) allowed the Consortium to extend the commitment requirement for its Fiscal Year (FY) 2010 HOME allocation to March 31, 2013.

Granted By: Mark Johnston, Acting Assistant Secretary for Community Planning and Development.

Date Granted: March 11, 2013.

Reasons Waived: The waivers were granted to permit the Consortium to quickly reprogram funds by shortening the citizen public comment period, to ensure the needed funds would not be deobligated, and so the Consortium could retain the funds to address the needs of the disaster-affected area.

Contact: Virginia Sardone, Office of Affordable Housing Programs, Office of Community Planning and Development, Department of Housing and Urban Development; 451 7th Street SW., Room 7164, Washington, DC 20410, telephone (202) 708-2684.

• Regulations: 24 CFR 91.402(a).

Project/Activity: The Village of Oak Park, IL requested a waiver of 24 CFR 91.402(a) that pertains to the Consolidated Plan Program Year which states that all units of local government that are members of a consortium must have the same program year for the Community Development Block Grant (CDBG), HOME, and Emergency Shelter Grants (ESG) programs.

Nature of Requirements: The Village of Oak Park, a new member of the Cook County HOME Consortium, currently receives CDBG and ESG funding with a program year start date of January 1st. However, the Cook County HOME Consortium has a program start date of October 1st, and immediately aligning the program years would cause an undue hardship, both financially and programmatically for the Village of Oak Park.

Granted By: Mark Johnston, Acting Assistant Secretary for Community Planning and Development.

Date Granted: January 11, 2013.

Reasons Waived: The waiver was granted to permit the Village to transition its program year start date to align with the Consortium's start date over a period of three years. HUD determined that permitting a three-year transition would lessen the programmatic and financial burden that would otherwise occur if the Village was required to immediately align its program year.

Contact: Virginia Sardone, Office of Affordable Housing Programs, Office of Community Planning and Development, Department of Housing and Urban Development; 451 7th Street SW., Room 7164, Washington, DC 20410, telephone (202) 708-2684.

• Regulations: 24 CFR 92.214(a)(6).

Project/Activity: The Hudson County Consortium, NJ, requested a waiver of 24 CFR 92.214(a)(6) which prohibits participating jurisdictions from investing additional HOME funds in a project previously assisted with HOME funds, except during the first year after project completion.

Nature of Requirements: The Consortium used HOME funds to rehabilitate a 70-unit rental project in Union City, New Jersey. Twelve units were damaged by water penetration and remediation attempts were unsuccessful. The Consortium requested a waiver to allow it to provide up to $1.7 million of additional HOME funds to construct a new wall system and repair damaged units.

Granted By: Mark Johnston, Acting Assistant Secretary for Community Planning and Development.

Date Granted: January 22, 2013.

Reasons Waived: The waiver was granted to permit the Consortium to invest additional HOME funds to permanently resolve water penetration issues. The HOME period of affordability was extended for an additional ten years, which would assist the Consortium's efforts to provide affordable units in a downtown location.

Contact: Virginia Sardone, Office of Affordable Housing Programs, Office of Community Planning and Development, Department of Housing and Urban Development, 451 7th Street SW., Room 7164, Washington, DC 20410, telephone (202) 708-2684.

• Regulation: 24 CFR 92.503(b)(3).

Project/Activity The following participating jurisdictions requested a waiver of 24 CFR 92.503(b)(3) that requires funds to be repaid to the account from which they were disbursed. The participating jurisdictions are: State of Nevada, State of Alaska, City of Athens, GA, City of Independence, MO, City of Boulder, CO, and the City of San Mateo, CA.

Nature of Requirements: The participating jurisdictions were obligated to repay ineligible HOME funds to the HOME grant from which they were expended. If all or a portion of the total repayment was repaid to an expired account, the repayment would have been received by HUD but retained by the United States Treasury. As a result, the repaid funds would have no longer been available for the participating jurisdictions' use in eligible affordable housing activities. The National Affordable Housing Act states that such repaid funds shall be immediately available to the grantee for investment in eligible affordable housing activities. In these cases, the regulation makes it impossible to meet this statutory provision. The waivers were granted to permit the participating jurisdictions to repay their local HOME Investment Trust Fund accounts instead of their HOME Investment Trust Treasury accounts.

Granted By: Mark Johnston, Acting Assistant Secretary for Community Planning and Development.

Date Granted: January-March, 2013.

Reasons Waived: Waivers were granted to permit the participating jurisdictions to make the repaid funds available for eligible HOME projects.

Contact: Virginia Sardone, Office of Affordable Housing Programs, Office of Community Planning and Development, Department of Housing and Urban Development, 451 7th Street SW., Room 7164, Washington, DC 20410, telephone (202) 708-2684.

• Regulation: 24 CFR 570.505.

Project/Activity: Progress Place is a homeless facility located in Montgomery County, MD that was purchased with CDBG funds. The facility, owned by Montgomery County, provides daily services critical to the safety and well-being of homeless men and women in the Silver Spring area. The County requested a waiver that would permit it to locate these services to another county-owned site without reimbursing the CDBG program for the value of the property.

Nature of Requirement: The regulation at 24 CFR 570.505 provides standards that apply to real property within the CDBG recipient's control that was acquired or improved in whole or in part using CDBG funds in excess of $25,000. The regulation allows the grantee to retain or dispose of the property for the changed use if the recipient's CDBG program is reimbursed in the amount of the current fair market value of the property, less any portion of the value attributable to expenditures of non-CDBG funds for acquisition of, and improvements to, the property.

Granted By: Mark Johnston, Acting Assistant Secretary for Community Planning and Development.

Date Granted: March 4, 2013.

Reason Waived: The waiver allowed Montgomery County to change the use of the site where the existing Progress Place is located, without reimbursing the CDBG program, and transferring the CDBG program requirements to a new facility to be located on a currently vacant, county-owned site.

Contact: Valerie Browne, Office of Block Grant Assistance, Entitlement Communities Division, Office of Community Planning and Development, Department of Housing and Urban Development, 451 7th Street SW., Room 7282, Washington, DC 20410, telephone (202) 708-1577.

• Regulation: Neighborhood Stabilization Program 3 Notice published in the Federal Register at 75 FR 64333 (Section II.H.3.F) in accordance with Title XII of Division A under the heading Community Planning and Development: Community Development Fund of the American Recovery and Reinvestment Act of 2009.

Project/Activity: Gary, IN, requested a waiver of the 10 percent demolition cap under the Neighborhood Stabilization Program (NSP) which restricts grantees from spending more than 10 percent of total grant funds on demolition activities.

Nature of Requirement: Section II.H.3.F of the NSP3 Notice provides that a grantee may not use more than ten percent of its grant for demolition activities.

Granted By: Mark Johnston, Acting Assistant Secretary for Community Planning and Development.

Date Granted: January 22, 2013.

Reason Waived: The City of Gary, IN, requested a waiver to spend $1,414,357.70 or approximately fifty-three percent of its NSP3 allocation on demolition of blighted structures. The city provided statistical data evidencing high vacancy and abandonment rates due to significant population and job loss. The city explained that there are a high number of properties requiring immediate demolition to remove safety hazards and the destabilizing influence of the blighted properties. With the additional funds to use towards demolition, Gary would target its NSP3 investment in two neighborhoods: the University Park neighborhood, which is well positioned to reflect the stabilizing impact of NSP3 funds, and the Old Sheraton neighborhood, a seemingly sustainable residential development that is undermined and destabilized by small pockets of exceptionally severe blight.

Contact: Jessie Handforth Kome, Deputy Director, Office of Block Grant Assistance, Office of Community Planning and Development, Department of Housing and Urban Development, 451 7th Street SW., Room 7286, Washington, DC 20410, telephone (202) 402-5539.

• Regulation: Neighborhood Stabilization Program 3 Notice published in the Federal Register at 75 FR 64333 (Section II.H.3.F) in accordance with Title XII of Division A under the heading Community Planning and Development: Community Development Fund of the American Recovery and Reinvestment Act of 2009.

Project/Activity: Flint, MI, requested a waiver of the 10 percent demolition cap under the Neighborhood Stabilization Program (NSP) which restricts grantees from spending more than 10 percent of total grant funds on demolition activities.

Nature of Requirement: Section II.H.3.F of the NSP3 Notice provides that a grantee may not use more than ten percent of its grant for demolition activities.

Granted By: Mark Johnston, Acting Assistant Secretary for Community Planning and Development.

Date Granted: February 26, 2013.

Reason Waived: The City of Flint, MI requested a waiver to spend $1,999,739.00 or approximately sixty-five percent of its NSP3 allocation on demolition of blighted structures. The city provided statistical data evidencing high vacancy and abandonment rates due to significant population and job loss. The city explained that there are a high number of properties requiring immediate demolition to remove safety hazards and the destabilizing influence of the blighted properties. With the additional funds an estimated 250 residential units within city limits would be demolished, thereby stabilizing entire city blocks.

Contact: Jessie Handforth Kome, Deputy Director, Office of Block Grant Assistance, Office of Community Planning and Development, Department of Housing and Urban Development, 451 7th Street SW., Room 7286, Washington, DC 20410, telephone (202) 402-5539.

II. Regulatory Waivers Granted by the Office of Housing—Federal Housing Administration (FHA)

For further information about the following regulatory waivers, please see the name of the contact person that immediately follows the description of the waiver granted.

• Regulation: 24 CFR 219.220(b).

Project/Activity: Garden Terrace West Apartments—FHA Project Number 127-EH004 and Garden Terrace Apartments—FHA Project Number 127-SH016, Wenatchee, Washington. The owner requested to defer repayment of the Flexible Subsidy loans on these projects because of the owner's inability to repay the loan in full or partially upon maturity.

Nature of Requirement: Section 219.220(b) governs the repayment of operating assistance provided under the Flexible Subsidy Program for Troubled Projects prior to May 1, 1996 states: “Assistance that has been paid to a project owner under this subpart must be repaid at the earlier of the expiration of the term of the mortgage, termination of these actions would typically terminate FHA involvement with the property, and the Flexible Subsidy loan would be repaid, in whole, at that time.”

Granted By: Carol J. Galante, Assistant Secretary for Housing—Federal Housing Commissioner.

Date Granted: March 11, 2013.

Reason Waived: This waiver was granted in order to allow the owner to refinance both projects which house the elderly and disabled and make major improvements and repairs to the projects. It was determined that these efforts would assure that residents are not displaced and that the project would meet or exceed HUD's standard for providing safe, decent, sanitary and affordable housing for the Wenatchee, Washington community.

Contact: Mark B. Van Kirk, Director, Office of Asset Management, Office of Housing, Department of Housing and Urban Development, 451 7th Street SW., Room 6160, Washington, DC 20410, telephone (202) 708-3730.

• Regulation: 24 CFR 219.220(b).

Project/Activity: Ogden Corners Apartments—FHA Project Number 071-55196, Chicago, Illinois. The owner requested a deferral of repayment of the Flexible Subsidy Operating Assistance Loan on this project to allow a longer term to pay off the loan.

Nature of Requirement: Section 219.220(b) governs the repayment of operating assistance provided under the Flexible Subsidy Program for Troubled Projects prior to May 1, 1996 states: “Assistance that has been paid to a project owner under this subpart must be repaid at the earlier of the expiration of the term of the mortgage, termination of these actions would typically terminate FHA involvement with the property, and the Flexible Subsidy loan would be repaid, in whole, at that time.”

Granted By: Carol J. Galante, Assistant Secretary for Housing—Federal Housing Commissioner.

Date Granted: March 11, 2013.

Reason Waived: The owner was allowed waiver of the requirement to defer repayment of the Flexible Subsidy Operating Assistance Loan because the owner was unable to pay the loan in full or partially upon maturity. This waiver would allow the owner to amortize the loan and implement a Modernization Plan that would provide updates in units as well as in common areas, repair the roof and façade of the property and preserve the affordability of this much needed housing for an additional 30 years.

Contact: Mark B. Van Kirk, Director, Office of Asset Management, Office of Housing, Department of Housing and Urban Development, 451 7th Street SW., Room 6160, Washington, DC 20410, telephone (202) 708-3730.

• Regulation: 24 CFR 203.41(c)(2).

Project/Activity: Uplands Development—Project Number 10A04090, Baltimore, Maryland.

Nature of Requirement: Section 203.41(c)(2) provides that legal restrictions on single family conveyances are acceptable only if the restrictions will automatically terminate if title to the mortgaged property is transferred by foreclosure, deed-in-lieu of foreclosure, or if the mortgage is assigned to the Secretary.

Granted By: Carol J. Galante, Assistant Secretary for Housing—Federal Housing Commissioner.

Date Granted: March 25, 2013.

Reason Waived: The property was purchased by the Housing Authority of Baltimore at a foreclosure sale and subsequently conveyed a portion of the property to a developer for the development of single family homeownership units. The waiver would allow those single family units to qualify for FHA mortgage insurance, allows the purchaser to obtain FHA financing and allow the Property Disposition Center's equity participation rider to remain in effect after conveyance of the property to a new owner, preserving the recapture of any surplus in the case of a default. It was determined that granting the waiver would support the Secretary's goal of increasing affordable housing for low-income families and furthers programmatic objectives.

Contact: Mark B. Van Kirk, Director, Office of Asset Management, Office of Housing, Department of Housing and Urban Development, 451 7th Street SW., Room 6160, Washington, DC 20410, telephone (202) 708-3730.

• Regulation: 24 CFR 232.7.

Project/Activity: Maple View Memory Care (Maple View) is a memory care facility that will serve 36 memory care residents. Maple View is located in Grand Forks, ND.

Nature of Requirement: The regulation at 24 CFR 232.7 mandates that in a board and care home or assisted living facility not less than one full bathroom must be provided for every four residents. Also, the bathroom cannot be accessed from a public corridor or area.

Granted By: Carol J. Galante, Assistant Secretary for Housing—Federal Housing Commissioner.

Date Granted: January 3, 2013.

Reason Waived: The facility does not meet the requirement, but the memory care residents of Maple View need assistance and supervision, while bathing. It was determined that the arrangement offered by Maple View would be safer for the residents.

Contact: Vance T. Morris, Special Assistant, Office of Healthcare Programs, Office of Healthcare Programs, Office of Housing, Department of Housing and Urban Development, 451 7th Street SW., Room 9172, Washington, DC 20410, telephone (202) 402-2419.

• Regulation: 24 CFR 232.7.

Project/Activity: Woodlands of Waterville (Waterville) has a license for 32 Alzheimer/Memory Care beds. The project is located in Waterville, ME.

Nature of Requirement: The regulation at 24 CFR 232.7 mandates in a board and care home or assisted living facility that the not less than one full bathroom must be provided for every four residents. Also, the bathroom cannot be accessed from a public corridor or area.

Granted By: Carol J. Galante, Assistant Secretary for Housing—Federal Housing Commissioner.

Date Granted: January 3, 2013.

Reason Waived: The residents of Waterville need assistance and supervision while bathing. The bathing/shower rooms are specifically designed to provide enough space for staff to safety assist the residents. It was determined that the arrangement offered by Waterville would be safer for the residents.

Contact: Vance T. Morris, Special Assistant, Office of Healthcare Programs, Office of Housing, Department of Housing and Urban Development, 451 7th Street SW., Room 9172, Washington, DC 20410, telephone (202) 402-2419.

• Regulation: 24 CFR 232.7.

Project/Activity: Woodlands of Brewer (Brewer) has a license for 32 Alzheimer/Memory Care beds. The project is located in Brewer, ME.

Nature of Requirement: The regulation at 24 CFR 232.7 mandates in a board and care home or assisted living facility that the not less than one full bathroom must be provided for every four residents. Also, the bathroom cannot be accessed from a public corridor or area.

Granted By: Carol J. Galante, Assistant Secretary for Housing—Federal Housing Commissioner.

Date Granted: January 3, 2013.

Reason Waived: The residents of Brewer need assistance and supervision while bathing. The bathing/shower rooms are specifically designed to provide enough space for staff to safety assist the residents. It was determined that the arrangement offered by Brewer would be safer for the residents.

Contact: Vance T. Morris, Special Assistant, Office of Healthcare Programs, Office of Housing, Department of Housing and Urban Development, 451 7th Street SW., Room 9172, Washington, DC 20410, telephone (202) 402-2419.

• Regulation: 24 CFR 232.7.

Project/Activity: Fund I has a license for 78 memory care residents located in 5 separate buildings. The project is located in Brookfield, Brown Deer and Mequon, WI.

Nature of Requirement: The regulation at 24 CFR 232.7 mandates in a board and care home or assisted living facility that the not less than one full bathroom must be provided for every four residents. Also, the bathroom cannot be accessed from a public corridor or area.

Granted By: Carol J. Galante, Assistant Secretary for Housing—Federal Housing Commissioner.

Date Granted: January 8, 2013.

Reason Waived: The residents of Fund I need assistance and supervision while bathing. The bathing/shower rooms are specifically designed to provide enough space for staff to safety assist the residents. It was determined that the arrangement offered by Fund I would be safer for the residents.

Contact: Vance T. Morris, Special Assistant, Office of Healthcare Programs, Office of Housing, Department of Housing and Urban Development, 451 7th Street SW., Room 9172, Washington, DC 20410, telephone (202) 402-2419.

• Regulation: 24 CFR 232.7.

Project/Activity: Carrollton Autumn Leaves (Carrollton) has a license for 43 Alzheimer/Memory Care residents. The project is located in Carrolton, TX.

Nature of Requirement: The regulation mandates in a board and care home or assisted living facility that the not less than one full bathroom must be provided for every four residents. Also, the bathroom cannot be accessed from a public corridor or area.

Granted By: Carol J. Galante, Assistant Secretary for Housing—Federal Housing Commissioner.

Date Granted: February 19, 2013.

Reason Waived: The residents of Carrollton need assistance and supervision while bathing. The bathing/shower rooms are specifically designed to provide enough space for staff to safety assist the residents. It was determined that the arrangement offered by Carrollton would be safer for the residents.

Contact: Vance T. Morris, Special Assistant, Office of Healthcare Programs, Office of Housing, Department of Housing and Urban Development, 451 7th Street SW., Room 9172, Washington, DC 20410, telephone (202) 402-2419.

• Regulation: 24 CFR 232.7.

Project/Activity: Trinity Senior Community (Trinity) has a license for 48 dementia care residents in three separate identical buildings. The project is located in Madison, WI.

Nature of Requirement: The regulation mandates in a board and care home or assisted living facility that the not less than one full bathroom must be provided for every four residents. Also, the bathroom cannot be accessed from a public corridor or area.

Granted By: Carol J. Galante, Assistant Secretary for Housing—Federal Housing Commissioner.

Date Granted: February 19, 2013.

Reason Waived: The residents of Trinity need assistance and supervision while bathing. The bathing/shower rooms are specifically designed to provide enough space for staff to safety assist the residents. It was determined that the arrangement offered by Trinity would be safer for the residents.

Contact: Vance T. Morris, Special Assistant, Office of Healthcare Programs, Office of Housing, Department of Housing and Urban Development, 451 7th Street SW., Room 9172, Washington, DC 20410, telephone (202) 402-2419.

• Regulation: 24 CFR 232.7.

Project/Activity: Woodlands of Hallowell (Hallowell) has a license for 24 Alzheimer/Memory Care beds. The project is located in Hallowell, ME.

Nature of Requirement: The regulation mandates in a board and care home or assisted living facility that the not less than one full bathroom must be provided for every four residents. Also, the bathroom cannot be accessed from a public corridor or area.

Granted By: Carol J. Galante, Assistant Secretary for Housing—Federal Housing Commissioner.

Date Granted: February 19, 2013.

Reason Waived: The residents of Hallowell need assistance and supervision while bathing. The bathing/shower rooms are specifically designed to provide enough space for staff to safety assist the residents. It was determined that the arrangement offered by Hallowell would be safer for the residents.

Contact: Vance T. Morris, Special Assistant, Office of Healthcare Programs, Office of Housing, Department of Housing and Urban Development, 451 7th Street SW., Room 9172, Washington, DC 20410, telephone (202) 402-2419.

• Regulation: 24 CFR 232.7.

Project/Activity: Meadows Courtyard has a license for 28 assisted living beds. The project is located in Oregon City, OR.

Nature of Requirement: The regulation mandates in a board and care home or assisted living facility that the not less than one full bathroom must be provided for every four residents. Also, the bathroom cannot be accessed from a public corridor or area.

Granted By: Carol J. Galante, Assistant Secretary for Housing—Federal Housing Commissioner.

Date Granted: March 27, 2013.

Reason Waived: The waiver was granted based on Meadows Courtyard's conclusion that the costs to additional bathrooms would affect the marketability of the property. The project is currently 100 percent occupied.

Contact: Vance T. Morris, Special Assistant, Office of Healthcare Programs, Office of Housing, Department of Housing and Urban Development, 451 7th Street SW., Room 9172, Washington, DC 20410, telephone (202) 402-2419.

• Regulation: 24 CFR 266.200(c)(2).

Project/Activity: Minnesota Housing Finance Agency, State of Minnesota.

Nature of Requirement: HUD's regulation at 24 CFR 266.200(c)(2) provides that mortgages refinanced under the Section 542(c) Risk Sharing program may not exceed the sum of the existing indebtedness, cost of refinancing, the cost of repairs, and reasonable transaction costs.

Granted By: Carol J. Galante, Assistant Secretary for Housing—Federal Housing Commissioner.

Date Granted: March 5, 2013.

Reason Waived: Granting the waiver permitted equity take-outs for the refinance of 84 specifically-identified projects with Section 8 Housing Assistance Payments contracts expiring through 2021. This would enable the implementation of a pilot program utilizing the Risk Sharing program to preserve Section 8 projects administered by Minnesota Housing Finance Agency.

Contact: Theodore K. Toon, Director, Office of Multifamily Housing Development, Office of Housing, Department of Housing and Urban Development, 451 7th Street SW., Room 9172, Washington, DC 20410, telephone (202) 402-8386.

• Regulation: 24 CFR 891.100(d).

Project/Activity: Oak Street Senior Apartments, Flint, MI, Project Number: 048-EE018/MI28-S101-005.

Nature of Requirement: Section 891.100(d) prohibits amendment of the amount of the approved capital advance funds prior to closing.

Granted By: Carol J. Galante, Assistant Secretary for Housing—Federal Housing Commissioner.

Date Granted: January 22, 2013.

Reason Waived: The project is economically designed and comparable in cost to similar projects in the area, and the sponsor/owner exhausted all efforts to obtain additional funding from other sources.

Contact: Catherine M. Brennan, Director, Office of Housing Assistance and Grant Administration, Office of Housing, Department of Housing and Urban Development, 451 7th Street SW., Washington, DC 20410, telephone (202) 708-3000.

• Regulation: 24 CFR 891.130(b).

Project/Activity: Council Towers VII, Bronx, NY, Project Number: 012-EE379/NY36-S101-003.

Nature of Requirement: Section 891.130(b) prohibits an identity of interest between the sponsor or owner (or borrower, as applicable) and any development team member or between development team members until two years after final closing.

Granted By: Carol J. Galante, Assistant Secretary for Housing—Federal Housing Commissioner.

Date Granted: January 30, 2013.

Reason Waived: Allowing the contractor to serve as the general contractor for both developments in the condo regime would allow for greater efficiency in the projects construction.

Contact: Catherine M. Brennan, Director, Office of Housing Assistance and Grant Administration, Office of Housing, Department of Housing and Urban Development, 451 7th Street SW., Washington, DC 20410, telephone (202) 708-3000.

• Regulation: 24 CFR 891.130(b).

Project/Activity: Elm Street Senior Housing, Cincinnati, OH, Project Number: 046-EE107.

Nature of Requirement: Section 891.130(b) prohibits an identity of interest between the Sponsor or Owner (or borrower, as applicable) and any development team member or between development team members until two years after final closing.

Granted By: Carol J. Galante, Assistant Secretary for Housing—Federal Housing Commissioner.

Date Granted: March 8, 2013.

Reason Waived: Allowing an identity of interest between the owner and the general contractor, where three principals of the general contractor are also members of the ownership entity, would facilitate the investment of private capital in the mixed finance project. A rule change to exempt mixed-financed projects from this regulation is pending publication.

Contact: Catherine M. Brennan, Director, Office of Housing Assistance and Grant Administration, Office of Housing, Department of Housing and Urban Development, 451 7th Street SW., Washington, DC 20410, telephone (202) 708-3000.

• Regulation: 24 CFR 891.165.

Project/Activity: Nativity B.V.M. Place, Philadelphia, PA, Project Number: 034-EE167/PA26-S091-005.

Nature of Requirement: Section 891.165 provides that the duration of the fund reservation of the capital advance is 18 months from the date of issuance with limited exceptions up to 24 months, as approved by HUD on a case-by-case basis.

Granted By: Carol J. Galante, Assistant Secretary for Housing—Federal Housing Commissioner.

Date Granted: February 6, 2013.

Reason Waived: Additional time was needed to resolve a zoning appeal by a neighbor and for the project to be initially closed.

Contact: Catherine M. Brennan, Director, Office of Housing Assistance and Grant Administration, Office of Housing, Department of Housing and Urban Development, 451 7th Street SW., Washington, DC 20410, telephone (202) 708-3000.

• Regulation: 24 CFR 891.165.

Project/Activity: Fairfield Commons I, Stamford, CT, Project Number: 017-HD042/CT26-Q091-006.

Nature of Requirement: Section 891.165 provides that the duration of the fund reservation of the capital advance is 18 months from the date of issuance with limited exceptions up to 24 months, as approved by HUD on a case-by-case basis.

Granted By: Carol J. Galante, Assistant Secretary for Housing—Federal Housing Commissioner.

Date Granted: February 19, 2013.

Reason Waived: Additional time was needed for HUD to issue the firm commitment and for the project to achieve an initial closing.

Contact: Catherine M. Brennan, Director, Office of Housing Assistance and Grant Administration, Office of Housing, Department of Housing and Urban Development, 451 7th Street SW., Washington, DC 20410, telephone (202) 708-3000.

• Regulation: 24 CFR 891.165.

Project/Activity: Jubilee Station, Charleston, WV, Project Number: 045-HD045/WV15-Q091-002.

Nature of Requirement: Section 891.165 provides that the duration of the fund reservation of the capital advance is 18 months from the date of issuance with limited exceptions up to 24 months, as approved by HUD on a case-by-case basis.

Granted By: Carol J. Galante, Assistant Secretary for Housing—Federal Housing Commissioner.

Date Granted: February 19, 2013.

Reason Waived: Additional time was needed to review and process the firm commitment application and for the project to reach an initial closing.

Contact: Catherine M. Brennan, Director, Office of Housing Assistance and Grant Administration, Office of Housing, Department of Housing and Urban Development, 451 7th Street SW., Washington, DC 20410, telephone (202) 708-3000.

• Regulation: 24 CFR 891.165.

Project/Activity: Silverwood Casitas, Tucson, AZ, Project Number: 123-EE113/AZ20-S091-004.

Nature of Requirement: Section 891.165 provides that the duration of the fund reservation of the capital advance is 18 months from the date of issuance with limited exceptions up to 24 months, as approved by HUD on a case-by-case basis.

Granted By: Carol J. Galante, Assistant Secretary for Housing—Federal Housing Commissioner.

Date Granted: February 19, 2013.

Reason Waived: Additional time was needed for the Phoenix Office to review and approve the initial closing documents and for the project to be initially closed.

Contact: Catherine M. Brennan, Director, Office of Housing Assistance and Grant Administration, Office of Housing, Department of Housing and Urban Development, 451 7th Street SW., Washington, DC 20410-8000, telephone (202) 708-3000.

• Regulation: 24 CFR 891.830(b) and 24 CFR 891.830(c)(4).

Project/Activity: Eagle Creek, Hubbard, OH, Project Number: 042-EE266/OH12-S101-009.

Nature of Requirement: Section 891.830(b) requires that capital advance funds be drawn down only in an approved ratio to other funds, in accordance with a drawdown schedule approved by HUD. Section 891.830(c)(4) requires that capital advance funds not be used for paying off bridge or construction financing, or repaying or collateralizing bonds.

Granted By: Carol J. Galante, Assistant Secretary for Housing—Federal Housing Commissioner.

Date Granted: January 30, 2013.

Reason Waived: HUD in its response to the public comments in the final rule published on September 23, 2005, stated, “while HUD generally expects the capital advance funds to be drawn down in a one-to-one ratio for eligible costs actually incurred, HUD may permit on a case-by-case basis, some variance from the drawdown requirements as needed for the success of the project.” Therefore, the waiver was granted to permit capital advance funds to be drawn down using a different mechanism than a pro rata basis and for other funding sources to be disbursed faster than a pro rata disbursement would provide. A waiver was also granted to permit capital advance funds to be used to collateralize the tax exempt bonds issued to finance the construction of the project and to pay off a portion of the tax-exempt bonds that strictly relate to capital advance eligible costs.

Contact: Catherine M. Brennan, Director, Office of Housing Assistance and Grant Administration, Office of Housing, Department of Housing and Urban Development, 451 7th Street SW., Washington, DC 20410, telephone (202) 708-3000.

• Regulation: 24 CFR 891.830(c)(4).

Project/Activity: Council Towers VII, Bronx, NY, Project Number: 012-EE379/NY36-S101-003.

Nature of Requirement: Section 891.830(c)(4) requires that capital advance funds not be used for paying off bridge or construction financing, or repaying or collateralizing bonds.

Granted By: Carol J. Galante, Assistant Secretary for Housing—Federal Housing Commissioner.

Date Granted: January 22, 2013.

Reason Waived: HUD in its response to the public comments in the final rule published September 23, 2005, stated, “while HUD generally expects the capital advance funds to be drawn down in a one-to-one ratio for eligible costs actually incurred, HUD may permit on a case-by-case basis, some variance from the drawdown requirements as needed for the success of the project.” Therefore, the waiver was granted to permit capital advance funds to be used to collateralize the tax exempt bonds issued to finance the construction of the project and to pay off a portion of the tax-exempt bonds that strictly relate to capital advance eligible costs.

Contact: Catherine M. Brennan, Director, Office of Housing Assistance and Grant Administration, Office of Housing, Department of Housing and Urban Development, 451 7th Street SW., Washington, DC 20410, telephone (202) 708-3000.

III. Regulatory Waivers Granted by the Office of Public and Indian Housing

For further information about the following regulatory waivers, please see the name of the contact person that immediately follows the description of the waiver granted.

• Regulation: 24 CFR 5.801(d)(1).

Project/Activity: Housing Authority of the city of Pottsville, (PA037), Pottsville PA.

Nature of Requirement: HUD's regulation at 24 CFR 5.801(d)(1) establishes certain reporting compliance dates. The audited financial statements are required to be submitted to the Real Estate Assessment Center (REAC) no later than 9 months after the housing authority's (HA) fiscal year end (FYE), in accordance with the Single Audit Act and OMB Circular A-133.

Granted By: Sandra B. Henriquez, Assistant Secretary for Public and Indian Housing.

Date Granted: January 18, 2013.

Reason Waived: The HA requested additional time to submit its audited financial information due to unusual circumstances as a result of a computer server that crashed, which was beyond the agency's control. Additional time was needed in order to reconstruct the General Ledger before the auditors could complete the field work. The HA and the Independent Public Audit had a properly executed engagement letter in place for the FYEs 2011, 2012, and 2013. The additional 30 days permitted the HA to complete the audited financial submission. The HA was required to submit its FYE March 31, 2012, audited financial information to REAC no later than January 30, 2013. However, the PHAS audited submission due date waiver did not apply to Circular A-133 submissions to the Federal Audit Clearinghouse.

Contact: Johnson Abraham, Program Manager, NASS, Real Estate Assessment Center, Office of Public and Indian Housing, Department of Housing and Urban Development, 550 12th Street SW., Suite 100, Washington, DC 20410, telephone (202) 475-8583.

• Regulation: 24 CFR 905.10(i)(5).

Project/Activity: San Francisco Housing Authority, Replacement Housing Factor (RHF) Grants, CA39R00150210, CA39R00150211, CA39R00150212, CA39R00150213.

Nature of Requirement: HUD's regulation at 24 CFR 905.10(i)(5) requires that “a PHA must leverage significant funds as a precondition for receiving Second Increment.”

Granted By: Sandra B. Henriquez, Assistant Secretary for Public and Indian Housing.

Date Granted: January 7, 2013.

Reason Waived: San Francisco Housing Authority (SFHA) sought a waiver of the regulation advising that it would use the RHF funds to renovate vacant units in order to increase the occupancy at the housing authority. SFHA stated that there is a large unmet need for low-income public housing in the Bay Area, and with the use of these RHF grants, SFHA would be able to address this need at a lower cost than the development of new public housing units. For this reason the waiver was granted.

Contact: Dominique Blom, Deputy Assistant Secretary for the Office of Public Housing Investments, Office of Public and Indian Housing, Department of Housing and Urban Development, 451 7th Street SW., Room 4130, Washington, DC 20140, telephone (202) 402-4181.

• Regulation: 24 CFR 941.606(n)(1)(ii)(B).

Project/Activity: Venice Housing Authority/Venetian Walk a 61-unit senior development.

Nature of Requirement: HUD's regulation at requires 24 CFR 941.606(n)(1)(ii)(B) that “if the partner and/or owner entity (or any other entity with and identity of interest with such parties) wants to serve as the general contractor for the project or development, it may award itself the construction contract only if it can demonstrate to HUD's satisfaction that its bid is the lowest bid submitted in response to a public request for bids.”

Granted By: Sandra B. Henriquez, Assistant Secretary for Public and Indian Housing.

Date Granted: December 12, 2012.

Reason Waived: Venice Housing Authority (VHA) submitted an independent cost estimate.

Contact: Dominique Blom, Deputy Assistant Secretary for the Office of Public Housing Investments, Office of Public and Indian Housing, Department of Housing and Urban Development, 451 7th Street SW., Room 4130, Washington, DC 20140, telephone (202) 402-4181.

• Regulation: 24 CFR 941.606(n)(1)(ii)(B).

Project/Activity: Miami Dade Public Housing and Community Development/Dante Fascell Preservation Project.

Nature of Requirement: HUD's regulation at requires 24 CFR 941.606(n)(1)(ii)(B) that “if the partner and/or owner entity (or any other entity with and identity of interest with such parties) wants to serve as the general contractor for the project or development, it may award itself the construction contract only if it can demonstrate to HUD's satisfaction that its bid is the lowest bid submitted in response to a public request for bids.”

Granted By: Sandra B. Henriquez, Assistant Secretary for Public and Indian Housing.

Date Granted: December 20, 2012.

Reason Waived: Miami Dade Public Housing and Community Development submitted an independent cost estimate.

Contact: Dominique Blom, Deputy Assistant Secretary for the Office of Public Housing Investments, Office of Public and Indian Housing, Department of Housing and Urban Development, 451 7th Street SW., Room 4130, Washington, DC 20140, telephone (202) 402-4181.

• Regulation: 24 CFR 941.606(n)(1)(ii)(B).

Project/Activity: Miami Dade Public Housing and Community Development/Joe Moretti Phase One Project.

Nature of Requirement: HUD's regulation at requires 24 CFR 941.606(n)(1)(ii)(B) that “if the partner and/or owner entity (or any other entity with and identity of interest with such parties) wants to serve as the general contractor for the project or development, it may award itself the construction contract only if it can demonstrate to HUD's satisfaction that its bid is the lowest bid submitted in response to a public request for bids.”

Granted By: Sandra B. Henriquez, Assistant Secretary for Public and Indian Housing.

Date Granted: January 16, 2013.

Reason Waived: Miami Dade Public Housing and Community Development submitted an independent cost estimate.

Contact: Dominique Blom, Deputy Assistant Secretary for the Office of Public Housing Investments, Office of Public and Indian Housing, Department of Housing and Urban Development, 451 7th Street SW., Room 4130, Washington, DC 20140, telephone (202) 402-4181.

• Regulation: 24 CFR 941.606(n)(1)(ii)(B).

Project/Activity: San Juan Housing Authority/San Juan III Apartments.

Nature of Requirement: HUD's regulation at requires 24 CFR 941.606(n)(1)(ii)(B) that “if the partner and/or owner entity (or any other entity with and identity of interest with such parties) wants to serve as the general contractor for the project or development, it may award itself the construction contract only if it can demonstrate to HUD's satisfaction that its bid is the lowest bid submitted in response to a public request for bids.”

Granted By: Sandra B. Henriquez, Assistant Secretary for Public and Indian Housing.

Date Granted: February 26, 2013.

Reason Waived: Venice Housing Authority (VHA) submitted an independent cost estimate.

Contact: Dominique Blom, Deputy Assistant Secretary for the Office of Public Housing Investments, Office of Public and Indian Housing, Department of Housing and Urban Development, 451 7th Street SW., Washington, DC 20140, Room 4130, telephone (202) 402-4181.

• Regulation: 24 CFR 982.305(c)(4).

Project/Activity: Southern Nevada Regional Housing Authority (SNRHA), Las Vegas, NV.

Nature of Requirement: HUD's regulation at 24 CFR 982.305(c)(4) states that any housing assistance payments contract executed after 60 calendar days from the beginning of the lease term is void and the public housing agency may not pay any payments to the owner.

Granted By: Sandra B. Henriquez, Assistant Secretary for Public and Indian Housing.

Date Granted: March 21, 2013.

Reason Waived: The previous director released payments without executing the applicable contracts. This waiver was approved to ensure continued assistance for affected families.

Contact: Laure Rawson, Director, Housing Voucher Management and Operations Division, Office of Public Housing and Voucher Programs, Office of Public and Indian Housing, Department of Housing and Urban Development, 451 7th Street SW., Room 4216, Washington, DC 20410, telephone (202) 708-0477.

• Regulation: 24 CFR 982.503(c), 982.503(c)(4)(ii) and 982.503(c)(5).

Project/Activity: Bradford County Housing Authority (BCHA), Bradford County, PA.

Nature of Requirement: HUD's regulation at 24 CFR 982.503(c) establishes the methodology for establishing exception payment standards for an area. HUD's regulation at 24 CFR 503(c)(4)(ii) states that HUD will only approve an exception payment standard amount after six months from the date of HUD approval of an exception payment standard amount above 110 percent to 120 percent of the published fair market rent (FMR). HUD's regulation at 24 CFR 982.503(c)(5) states that the total population of a HUD-approved exception areas in an FMR area may not include more than 50 percent of the population of the FMR area.

Granted By: Sandra B. Henriquez, Assistant Secretary for Public and Indian Housing.

Date Granted: January 3, 2013.

Reason Waived: These waivers were granted because of a shock to the rental housing market in the BCHA FMR area caused by increased economic activity due to the shale gas industry.

Contact: Laure Rawson, Director, Housing Voucher Management and Operations Division, Office of Public Housing and Voucher Programs, Office of Public and Indian Housing, Department of Housing and Urban Development, 451 7th Street SW., Room 4216, Washington, DC 20410, telephone (202) 708-0477.

• Regulation: 24 CFR 982.503(c), 982.503(c)(4)(ii) and 982.503(c)(5).

Project/Activity: Tioga County Housing Authority (BCHA), Tioga County, PA.

Nature of Requirement: HUD's regulation at 24 CFR 982.503(c) establishes the methodology for establishing exception payment standards for an area. HUD's regulation at 24 CFR 503(c)(4)(ii) states that HUD will only approve an exception payment standard amount after six months from the date of HUD approval of an exception payment standard amount above 110 percent to 120 percent of the published fair market rent (FMR). HUD's regulation at 24 CFR 982.503(c)(5) states that the total population of a HUD-approved exception areas in an FMR area may not include more than 50 percent of the population of the FMR area.

Granted By: Sandra B. Henriquez, Assistant Secretary for Public and Indian Housing.

Date Granted: January 3, 2013.

Reason Waived: These waivers were granted because of a shock to the rental housing market in the TCHA FMR area caused by increased economic activity due to the shale gas industry.

Contact: Laure Rawson, Director, Housing Voucher Management and Operations Division, Office of Public Housing and Voucher Programs, Office of Public and Indian Housing, Department of Housing and Urban Development, 451 7th Street SW., Room 4216, Washington, DC 20410, telephone (202) 708-0477.

• Regulation: 24 CFR 982.503(c), 982.503(c)(4)(ii) and 982.503(c)(5).

Project/Activity: Union County Housing Authority (UCHA), Union County, PA.

Nature of Requirement: HUD's regulation at 24 CFR 982.503(c) establishes the methodology for establishing exception payment standards for an area. HUD's regulation at 24 CFR 503(c)(4)(ii) states that HUD will only approve an exception payment standard amount after six months from the date of HUD approval of an exception payment standard amount above 110 percent to 120 percent of the published fair market rent (FMR). HUD's regulation at 24 CFR 982.503(c)(5) states that the total population of a HUD-approved exception areas in an FMR area may not include more than 50 percent of the population of the FMR area.

Granted By: Sandra B. Henriquez, Assistant Secretary for Public and Indian Housing.

Date Granted: March 4, 2013.

Reason Waived: These waivers were granted because of a shock to the rental housing market in the UCHA FMR area caused by increased economic activity due to natural resource exploration.

Contact: Laure Rawson, Director, Housing Voucher Management and Operations Division, Office of Public Housing and Voucher Programs, Office of Public and Indian Housing, Department of Housing and Urban Development, 451 7th Street SW., Room 4216, Washington, DC 20410, telephone (202) 708-0477.

• Regulation: 24 CFR 982.505(c)(3).

Project/Activity: Opelika Housing Authority (OHA), Opelika, AL.

Nature of Requirement: HUD's regulation at 24 CFR 982.505(c)(3) states that, if the amount on the payment standard schedule is decreased during the term of the housing assistance payments (HAP) contract, the lower payment standard amount generally must be used to calculate the monthly HAP for the family beginning on the effective date of the family's second regular reexamination following the effective date of the decrease.

Granted By: Sandra B. Henriquez, Assistant Secretary for Public and Indian Housing.

Date Granted: March 5, 2013.

Reason Waived: This waiver was granted because this cost-saving measure would enable the OHA to manage its Housing Choice Voucher program within allocated budget authority and avoid the termination of HAP contracts due to insufficient funding.

Contact: Laure Rawson, Director, Housing Voucher Management and Operations Division, Office of Public Housing and Voucher Programs, Office of Public and Indian Housing, Department of Housing and Urban Development, 451 7th Street SW., Room 4216, Washington, DC 20410, telephone (202) 708-0477.

• Regulation: 24 CFR 982.505(d).

Project/Activity: San Francisco Housing Authority (SFHA), San Francisco, CA.

Nature of Requirement: HUD's regulation at 24 CFR 982.505(d) states that a public housing agency may only approve a higher payment standard for a family as a reasonable accommodation if the higher payment standard is within the basic range of 90 to 110 percent of the fair market rent (FMR) for the unit size.

Granted By: Sandra B. Henriquez, Assistant Secretary for Public and Indian Housing.

Date Granted: February 27, 2013.

Reason Waived: Twenty-four homeless veterans required an exception payment standard to move to a unit in a building that met their health needs. To provide this reasonable accommodation so these clients could be assisted in this building and pay no more than 40 percent of their adjusted income toward the family share, the SFHA was allowed to approve exception payment standards that exceeded the basic range of 90 to 110 percent of the FMR.

Contact: Laure Rawson, Director, Housing Voucher Management and Operations Division, Office of Public Housing and Voucher Programs, Office of Public and Indian Housing, Department of Housing and Urban Development, 451 7th Street SW., Room 4216, Washington, DC 20410, telephone (202) 708-0477.

• Regulation: 24 CFR 982.505(d).

Project/Activity: Berkeley Housing Authority (BHA), Berkeley, CA.

Nature of Requirement: HUD's regulation at 24 CFR 982.505(d) states that a public housing agency may only approve a higher payment standard for a family as a reasonable accommodation if the higher payment standard is within the basic range of 90 to 110 percent of the fair market rent (FMR) for the unit size.

Granted By: Sandra B. Henriquez, Assistant Secretary for Public and Indian Housing.

Date Granted: March 5, 2013.

Reason Waived: The participant, who is disabled, required an exception payment standard to move to a wheelchair-accessible unit. To provide this reasonable accommodation so the client could move to an accessible unit and pay no more than 40 percent of her adjusted income toward the family share, the BHA was allowed to approve an exception payment standard that exceeded the basic range of 90 to 110 percent of the FMR.

Contact: Laure Rawson, Director, Housing Voucher Management and Operations Division, Office of Public Housing and Voucher Programs, Office of Public and Indian Housing, Department of Housing and Urban Development, 451 7th Street SW., Room 4216, Washington, DC 20410, telephone (202) 708-0477.

• Regulation: 24 CFR 983.253(b) and 983.259(a)(1) and (2) and (c).

Project/Activity: Michigan State Housing Development Authority (MSHDA), MI.

Nature of Requirement: HUD's regulation at 24 CFR 983.253(b) states that the project-based voucher (PBV) contract unit leased to each family must be appropriate for the size of the family under the public housing agency's subsidy standards. HUD's regulation at 24 CFR 983.259(a)(1) and (2) and (c) state that if the PHA determines that the family is occupying a wrong-sized unit, the PHA must promptly notify the family and the owner of this determination. After an offer of comparable rental assistance, the PHA must terminate the housing assistance payments for the wrong-sized unit.

Granted By: Sandra B. Henriquez, Assistant Secretary for Public and Indian Housing.

Date Granted: January 16, 2013.

Reason Waived: These waivers were related to the Rental Assistance Demonstration (RAD) program. They were approved because requiring families to move from their units pursuant to the conversion would present a significant hardship.

Contact: Laure Rawson, Director, Housing Voucher Management and Operations Division, Office of Public Housing and Voucher Programs, Office of Public and Indian Housing, Department of Housing and Urban Development, 451 7th Street SW., Room 4210, Washington, DC 20410, telephone (202) 708-0477.

[FR Doc. 2013-12752 Filed 5-29-13; 8:45 am]

BILLING CODE 4210-67-P